DEPARTMENT OF ENERGY

Federal Energy Regulatory Commission

Combined Notice of Filings #1

Take notice that the Commission received the following electric rate filings:

Docket Numbers: ER10-2579-005.

Applicants: NorthPoint Energy Solutions Inc.

Description: Notice of Change in Status of NorthPoint Energy Solutions, Inc.

Filed Date: 7/14/22.

Accession Number: 20220714-5211.

Comment Date: 5 p.m. ET 8/4/22.

Docket Numbers: ER20-1836-002.

Applicants: Dominion Energy South Carolina, Inc.

Description: Compliance filing: 2nd Supp Order 864 Compliance filing to be effective 1/27/2020.

Filed Date: 7/15/22.

Accession Number: 20220715-5017.

Comment Date: 5 p.m. ET 8/5/22.

Docket Numbers: ER21-64-000.

Applicants: Macquarie Energy LLC.

Description: Refund Report of Macquarie Energy LLC.

Filed Date: 7/15/22.

Accession Number: 20220715-5114.

Comment Date: 5 p.m. ET 8/5/22.

Docket Numbers: ER22-1703-001.

Applicants: Salem Harbor Power Development LP.

Description: Notice of Change in Status of Salem Harbor Power Development LP.

Filed Date: 7/14/22.

Accession Number: 20220714-5207.

Comment Date: 5 p.m. ET 8/4/22.

Docket Numbers: ER22-2141-000; ER22-2283-000; ER22-2284-000.

Applicants: Black Bear Alabama Solar Tenant, LLC, Black Bear Alabama Solar 1, LLC, Sun Mountain Solar 1, LLC.

Description: Supplement to June 17, 2022 Sun Mountain Solar 1, LLC, et al. tariff filing.

Filed Date: 7/14/22.

Accession Number: 20220714-5206.

Comment Date: 5 p.m. ET 7/25/22.

Docket Numbers: ER22-2378-000.

Applicants: Southwest Power Pool, Inc.

Description: § 205(d) Rate Filing: 3908R1 T.

Filed Date: 7/15/22.

Accession Number: 20220715-5008.

Comment Date: 5 p.m. ET 8/5/22.

Docket Numbers: ER22-2379-000.

Applicants: Southwest Power Pool, Inc.

Description: § 205(d) Rate Filing: 3979 Ponderosa Wind II GIA to be effective 7/12/2022.

Filed Date: 7/15/22.

Accession Number: 20220715-5041.

Comment Date: 5 p.m. ET 8/5/22.

Docket Numbers: ER22-2381-000.

Applicants: American Transmission Systems, Incorporated, PJM Interconnection, L.L.C.

Description: § 205(d) Rate Filing: American Transmission Systems, Incorporated submits tariff filing per 35.13(a)(2)(iii): ATSI submits four ECSAs, SA Nos. 6345, 6346, 6405 and 6407 to be effective 9/14/2022.

Filed Date: 7/15/22.

Accession Number: 20220715-5068.

Comment Date: 5 p.m. ET 8/5/22.

Docket Numbers: ER22-2382-000.

Applicants: PJM Interconnection, L.L.C.

Description: § 205(d) Rate Filing: Revisions to OA, Schedule 7, section 1.2 (b) re: EKPC UFLS requirements to be effective 9/14/2022.

Filed Date: 7/15/22.

Accession Number: 20220715-5078.

Comment Date: 5 p.m. ET 8/5/22.

Docket Numbers: ER22-2383-000.

Applicants: Black Hills Power, Inc.

Description: § 205(d) Rate Filing: Filing of Jurisdictional Point-to-Point Transmission Service Agreements to be effective 12/31/9998.

Filed Date: 7/15/22.

Accession Number: 20220715-5094.

Comment Date: 5 p.m. ET 8/5/22.

Docket Numbers: ER22-2384-000.

Applicants: Athens Energy LLC.

Description: Notice of Cancellation of Market Based Rate Tariff of Athens Energy, LLC.

Filed Date: 7/14/22.

Accession Number: 20220714-5208.

Comment Date: 5 p.m. ET 8/4/22.

Docket Numbers: ER22-2385-000.

Applicants: Panorama Wind, LLC.

Description: Baseline eTariff Filing: Reactive Power Compensation Filing to be effective 7/16/2022.

Filed Date: 7/15/22.

Accession Number: 20220715-5116.

Comment Date: 5 p.m. ET 8/5/22.

Docket Numbers: ER22-2386-000.

Applicants: Wisconsin Public Service Corporation.

Description: § 205(d) Rate Filing: Filing of Amended Agency Services Agreement to be effective 9/14/2022.

Filed Date: 7/15/22.

Accession Number: 20220715-5122.

Comment Date: 5 p.m. ET 8/5/22.

Docket Numbers: ER22-2387-000.

Applicants: Mid-Atlantic Interstate Transmission, LLC, PJM Interconnection, L.L.C.

Description: § 205(d) Rate Filing: Mid-Atlantic Interstate Transmission, LLC submits tariff filing per 35.13(a)(2)(iii): MAIT submits Five ECSAs, SA Nos. 6351, 6401, 6403, 6404 and 6406 to be effective 9/14/2022.

Filed Date: 7/15/22.

Accession Number: 20220715-5140.

Comment Date: 5 p.m. ET 8/5/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2022.
Debbie-Anne A. Reese,
Deputy Secretary.

[FR Doc. 2022-15597 Filed 7-20-22; 8:45 am]

BILLING CODE 6717-01-P